FEDERAL MINE SAFETY AND HEALTH REVIEW COMMISSION

Sunshine Act Meeting

Time and Date: 10 a.m., Thursday, July 24, 2008.

Place: The Richard V. Backley Hearing Room, 9th Floor, 601 New Jersey Avenue, NW., Washington, DC.

Status: Open.

Matters to be Considered: The Commission will consider and act upon the following in open session: Secretary of Labor v. National Cement Company of California, Docket No. WEST 2004-182-RM. (Issues include whether the Secretary properly interpreted section 3(h)(1) of the Mine Act in concluding that MSHA had jurisdiction over an access road leading to a cement plant.)

Any person attending this meeting who requires special accessibility features and/or auxiliary aids, such as sign language interpreters, must inform the Commission in advance of those needs. Subject to 29 CFR 2706.150(a)(3) and 2706.160(d).

Contact Person for More Info: Jean Ellen (202) 434-9950/(202) 708-9300 for TDD Relay/1-800-877-8339 for toll free.

Sandra G. Farrow,
Acting Chief Docket Clerk.

[FR Doc. E8-14591 Filed 6-26-08; 8:45 am]

BILLING CODE 6735-01-M